DEPARTMENT OF ENERGY

Federal Energy Regulatory Commission

[Project Nos. 382-026 and 178-017]

Southern California Edison Company, Pacific Gas & Electric Company; Notice of Availability of Final Environmental Assessment

September 27, 2005.

In accordance with the National Environmental Policy Act of 1969 and the Federal Energy Regulatory Commission's (Commission) regulations, 18 CFR part 380 (Order No. 486, 52 FR 47897), the Office of Energy Projects has reviewed the applications for license for the Borel Hydroelectric Project (P-382-026) and Kern Canyon Hydroelectric Project (P-178-017) and has prepared a Final Environmental Assessment (FEA) for the projects. The Borel Hydroelectric Project is located on the Kern River near the town of Bodfish in Kern County, California. The canal intake for the project is located on approximately 188 acres of Sequoia National Forest Service lands. The Kern Canyon Hydroelectric Project is located on the Kern River, near the town of Bakersfield in Kern County, California. The project occupies approximately 11.26 acres of public land located within the Sequoia National Forest.

The FEA contains the Staff's analysis of the potential environmental impacts of the projects and concludes that licensing the projects, with appropriate environmental protective measures, would not constitute a major federal action that would significantly affect the quality of the human environment.

A copy of the FEA is on file with the Commission and is available for public inspection. The FEA is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

For further information, contact Emily Carter at (202) 502-6512 or emily.carter@ferc.gov.

Magalie R. Salas,
Secretary.

[FR Doc. E5-5402 Filed 9-30-05; 8:45 am]

BILLING CODE 6717-01-P